DEPARTMENT OF AGRICULTURE

Grain Inspection, Packers and Stockyards Administration

Opportunity for Designation in Georgia, Cedar Rapids (IA), and Montana Areas, and Request for Comments on the Official Agencies Serving These Areas

AGENCY: Grain Inspection, Packers and Stockyards Administration, USDA.

ACTION: Notice.

SUMMARY: The designations of the official agencies listed below will end on June 30, 2008. We are asking persons interested in providing official services in the areas served by these agencies to submit an application for designation. We are also asking for comments on the quality of services provided by these currently designated agencies: Georgia Department of Agriculture (Georgia); Mid-Iowa Grain Inspection, Inc. (Mid-Iowa); and Montana Department of Agriculture (Montana).

DATES: Applications and comments must be received on or before January 2, 2009.

ADDRESSES: We invite you to submit applications and comments on this notice. You may submit applications and comments by any of the following methods:

• To apply for designation, go to FGIS online, Web page https://fgis.gipsa.usda.gov/default_home_FGIS.aspx. Select Delegations/Designations and Export Registrations (DDR). You need e-authentication and a customer number prior to applying.

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act, as amended (USGSA or Act), authorizes GIPSA's Administrator to designate a qualified applicant to provide official services in a specified area after determining that the applicant is better able than any other applicant to provide such official services (7 U.S.C. 79(f)(1)).

Section 7(g)(1) of USGSA provides that designations of official agencies will terminate not later than three years and may be renewed according to the criteria and procedures prescribed in Section 7(f) of USGSA.

Current Designations being Announced for Renewal
Official agency | Main office | Designation start | Designation end
Georgia | Tifton, GA | 07/01/2008 | 06/30/2011
Mid-Iowa | Cedar Rapids, IA | 07/01/2008 | 03/31/2011
Montana | Helena, MT | 07/01/2008 | 03/31/2011

Georgia

Pursuant to Section 7(f)(2) of the Act, the following geographic area, the entire State of Georgia, except those export port locations within the State which are serviced by GIPSA, is assigned to Georgia.

Mid-Iowa

Pursuant to Section 7(f)(2) of the Act, the following geographic area, in the States of Minnesota, Iowa, and Texas is assigned to Mid-Iowa.

In Minnesota

Wabasha, Olmstead, Winona, Houston, and Fillmore Counties.

In Iowa

Bounded on the North by the northern Winneshiek and Allamakee County lines;

Bounded on the East by the eastern Allamakee County line; the eastern and southern Clayton County lines; the eastern Buchanan County line; the northern and eastern Jones County lines; the eastern Cedar County line south to State Route 130;

Bounded on the South by State Route 130 west to State Route 38; State Route 38 south to Interstate 80; Interstate 80 west to U.S. Route 63; and

Bounded on the West by U.S. Route 63 north to State Route 8; State Route 8 east to State Route 21; State Route 21 north to D38; D38 east to State Route 297; State Route 297 north to V49; V49 north to Bremer County; the southern Bremer County line; the western Fayette and Winneshiek County lines.

In Texas

Bounded on the north by the northern Young, Jack, Montague, Cooke, Grayson, Fannin, Lamar, Red River, Morris, and Marion County line east to the Texas State line;

Bounded on the east by the eastern Texas State line south to the southern Texas State line;

Bounded on the south by the southern Texas State line west to the western Val Verde County line;

Bounded on the west by the western Val Verde, Edwards, Kimble, Mason, San Saba, Mills, Comanche, Eastland, Stephens, and Young County lines north to the northern Young County line.

Mid-Iowa's assigned geographic area does not include the export port locations inside Mid-Iowa's area which are serviced by GIPSA.

Montana

Pursuant to Section 7(f)(2) of the Act, the following geographic area, the entire State of Montana, is assigned to Montana.

Opportunity for Designation

Interested persons, including Georgia, Mid-Iowa, and Montana, may apply for designation to provide official services in the geographic areas specified above under the provisions of Section 7(f) of USGSA (7 U.S.C. 79(f)(2)), and 9 CFR 800.196(d) regulations. Designation in the specified geographic areas is for the period beginning July 1, 2008, and ending June 30, 2011. To apply for designation, contact the Compliance Division at the address listed above for forms and information, or obtain applications at the GIPSA Web site, http://www.gipsa.usda.gov.

Request for Comments

We are also publishing this notice to provide interested persons the opportunity to present comments on the quality of services provided by the Georgia, Mid-Iowa, and Montana official agencies. In the designation process, we are particularly interested in receiving comments citing reasons and pertinent data for support or objection to the designation of the applicants. Submit all comments to the Compliance Division at the above address or at http://www.regulations.gov.

In determining which applicant will be designated, we will consider applications, comments, and other available information.

Authority: 7 U.S.C. 71-87k.

James E. Link,
Administrator, Grain Inspection, Packers and Stockyards Administration.

[FR Doc. E7-23239 Filed 11-30-07; 8:45 am]

BILLING CODE 3410-KD-P